DEPARTMENT OF VETERANS AFFAIRS

Special Medical Advisory Group, Notice of Meeting

The Department of Veterans Affairs (VA) gives notice under the Federal Advisory Committee Act, 5 U.S.C. App. 2, that the Special Medical Advisory Group will meet on November 22, 2016, in the Potomac A Room at the VHA National Conference Center 2011 Crystal Drive Arlington, VA 22202 from 8 a.m. to 4 p.m. EST. The meeting is open to the public.

The purpose of the Group is to advise the Secretary of Veterans Affairs and the Under Secretary for Health on the care and treatment of Veterans, and other matters pertinent to the Department's Veterans Health Administration (VHA).

The agenda for the meeting will include the Presidential Transition and key issues facing the new administration including Choice and Budget Appropriations.

Thirty (30) minutes will be allocated for receiving oral presentations from the public. Members of the public may also submit written statements for review by the Committee to Ms. Chantelle Bartch, Department of Veterans Affairs, Office of Patient Care Services (10P4), Veterans Health Administration, 810 Vermont Avenue NW., Washington, DC 20420, or by email at chantelle.bartch@va.gov.

Any member of the public wishing to attend the meeting or seeking additional information should contact Ms. Chantelle Bartch at (202) 461-7154 or by email.

Dated: October 18, 2016.
LaTonya L. Small,
Federal Advisory Committee Management Officer.

[FR Doc. 2016-25543 Filed 10-20-16; 8:45 am]

BILLING CODE 8320-01-P